DEPARTMENT OF THE INTERIOR

Bureau of Land Management

[MT-921-05-1320-EL-P; MTM 94378]

Notice of Coal Lease Application—MTM 94378—Spring Creek Coal Company

AGENCY: Bureau of Land Management, Interior.

ACTION: Notice.

SUMMARY: Notice of Spring Creek Coal Company's Coal Lease Application MTM 94378 for certain coal resources within the Powder River Coal Region. The land included in Coal Lease Application MTM 94378 is located in Big Horn County, Montana.

FOR FURTHER INFORMATION CONTACT: Rebecca Sprugin, Coal Coordinator, at telephone 406-896-5080, Bureau of Land Management, Montana State Office, 5001 Southgate Drive, P.O. Box 36800, Billings, Montana 59107-6800.

SUPPLEMENTARY INFORMATION: The land included in the coal lease application is described as follows:

T. 8 S., R. 39 E., P. M. M.

Sec. 13: SW¼NW¼NW¼, SW¼NW¼, SW¼SE¼NW¼, N½SW¼, N½SW¼SW¼, N½SE¼SW¼SW¼, SE¼SE¼SW¼SW¼, SE¼SW¼, NW¼NW¼SE¼, S½NW¼SE¼, N½SW¼SE¼, SW¼SW¼SE¼;

Sec. 14: NW¼NE¼NE¼, S½NE¼NE¼, NW¼NE¼, S½NE¼, SE¼NE¼NW¼, NE¼SW¼NW¼, N½SE¼NW¼, N½NE¼SE¼, N½S½NE¼SE¼, S½SE¼NE¼SE¼, NE¼NE¼SE¼SE¼;

Sec. 15: NW¼SW¼SE¼, S½SW¼SE¼;

Sec. 22: NE¼NE¼, N½NW¼NE¼, SE¼NW¼NE¼, NE¼SE¼NE¼, NE¼NE¼NW¼;

Sec. 23: SW¼SW¼NW¼NE¼, S½N½NW¼, S½NW¼;

Sec. 24: N½NE¼NW¼;

Sec. 25: SW¼SW¼;

Sec. 26: SW¼NE¼NE¼SW¼, W½NW¼NE¼SW¼, SE¼NW¼NE¼SW¼, S½NE¼SW¼, NW¼SW¼, N½SE¼SW¼, S½NW¼SE¼, S½SE¼;

Sec. 27: SW¼NW¼SE¼NE¼, S½SE¼NE¼, NW¼NE¼SW¼NE¼, S½NE¼SW¼NE¼, W½SW¼NE¼, SE¼SW¼NE¼, E½SE¼NW¼, N½NE¼SE¼, SE¼NE¼SE¼, NE¼NW¼SE¼;

T. 8 S., R. 40 E., P. M. M.

Sec. 30: S½NW¼SE¼, S½SE¼;

The 1,207.50-acre tract contains an estimated 121.4 million tons of recoverable coal reserves.

The application will be processed in accordance with the provisions of the Mineral Leasing Act of 1920, as amended (30 U.S.C. 181, et seq.), and the implementing regulations at 43 CFR Part 3400. A decision to allow leasing of the coal reserves in said tract will result in a competitive lease sale to be held at a time and place to be announced through publication pursuant to 43 CFR 3422. Spring Creek Coal Company is the operator of the Spring Creek Mine. The entire area included within this lease application lies within the Spring Creek Mine SMP79012 permit area.

The area applied for would be mined as an extension of the Spring Creek Mine and would utilize the same methods as those currently being used. The lease being applied for can extend the life of the mine by about 8 years and enable recovery of coal that might never be mined if not mined as a logical extension of current pits.

Notice of Availability: The application is available for review between the hours of 9 a.m. and 4 p.m. at the Bureau of Land Management, Montana State Office, 5001 Southgate Drive, Billings, Montana 59101, and at the Bureau of Land Management, Miles City Field Office, 111 Garryowen Road, Miles City, Montana, 59301-0940, between the hours of 8 a.m. and 4 p.m.

Dated: March 30, 2005.
Randy D. Heuscher,
Chief, Branch of Solid Minerals.

[FR Doc. 05-10925 Filed 6-1-05; 8:45 am]

BILLING CODE 4310-88-P